NUCLEAR REGULATORY COMMISSION

[Docket No. 50-346]

FirstEnergy Nuclear Operating Company, Davis-Besse Nuclear Power Station; Environmental Assessment and Finding of No Significant Impact

The U.S. Nuclear Regulatory Commission (NRC) is considering withdrawal of an exemption from title 10 of the Code of Federal Regulations (10 CFR) part 50, Appendix R, subsection III.L.1 for Facility Operating License No. NPF-3, issued to FirstEnergy Nuclear Operating Company (FENOC or the licensee), for operation of the Davis-Besse Nuclear Power Station (DBNPS), located in Ottawa County, Ohio. Therefore, as required by 10 CFR 51.21, the NRC is issuing this environmental assessment and finding of no significant impact.

Environmental Assessment

Identification of the Proposed Action

The proposed action would withdraw an exemption to 10 CFR part 50, Appendix R, subsection III.L.1, regarding the plant's capability to achieve cold shutdown within 72 hours by the alternative shutdown process, independent of offsite power.

The proposed action is in accordance with the licensee's application dated December 17, 2003.

The Need for the Proposed Action

The action is proposed because the licensee has now determined that DBNPS can achieve cold shutdown within 72 hours by the alternative shutdown process independent of offsite power; therefore, the exemption is no longer required.

Environmental Impacts of the Proposed Action

The NRC has completed its evaluation of the proposed action and concludes that the proposed exemption withdrawal does not involve radioactive wastes, release of radioactive material into the atmosphere, solid radioactive waste, or liquid effluents released to the environment.

The DBNPS systems were evaluated in the Final Environmental Statement (FES) dated October 1975 (NUREG 75/097). The proposed exemption withdrawal will not involve any change in the waste treatment systems described in the FES.

The proposed action will not significantly increase the probability or consequences of accidents, no changes are being made in the types of effluents that may be released offsite, and there is no significant increase in occupational or public radiation exposure. Therefore, there are no significant radiological environmental impacts associated with the proposed action.

With regard to potential nonradiological impacts, the proposed action does not have a potential to affect any historic sites. It does not affect nonradiological plant effluents and has no other environmental impact. Therefore, there are no significant nonradiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

The action does not involve the use of any different resource than those previously considered in the DBNPS FES dated October 1975.

Agencies and Persons Consulted

On April 16, 2004, the staff consulted with Ohio State official, C. O'Claire of the Ohio Emergency Management Agency, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated December 17, 2003 (ADAMS ML033600026). Documents may be examined, and/or copied for a fee, at the NRC's Public Document Room (PDR), located at One White Flint North, Public File Area O1-F21, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS, should contact the NRC PDR Reference staff by telephone at 1-800-397-4209 or 301-415-4737, or by e-mail to pdr@nrc.gov.

Dated in Rockville, Maryland, this 12th day of May, 2004.
For the Nuclear Regulatory Commission.
Jon B. Hopkins,
Senior Project Manager, Project Directorate III, Section 2, Division of Licensing Project Management, Office of Nuclear Reactor Regulation.

[FR Doc. 04-11297 Filed 5-18-04; 8:45 am]

BILLING CODE 7590-01-P